DEPARTMENT OF THE INTERIOR

Fish and Wildlife Service

Information Collection Renewal To Be Sent to the Office of Management and Budget (OMB) for Approval Under the Paperwork Reduction Act; OMB Control Number 1018-0012; Declaration for Importation or Exportation of Fish or Wildlife

AGENCY: Fish and Wildlife Service, Interior.

ACTION: Notice; request for comments.

SUMMARY: We (Fish and Wildlife Service) will ask OMB to renew approval for our information collection associated with the importation or exportation of fish or wildlife. The current OMB control number for this information collection is 1018-0012, which expires on December 31, 2006. We will request that OMB renew approval of this information collection for a 3-year term. As required by the Paperwork Reduction Act of 1995 and as part of our continuing efforts to reduce paperwork and respondent burden, we invite the general public and other Federal agencies to take this opportunity to comment on this information collection.

DATES: You must submit comments on or before August 21, 2006.

ADDRESSES: Send your comments to Hope Grey, Information Collection Clearance Officer, Fish and Wildlife Service, MS 222-ARLSQ, 4401 N. Fairfax Drive, Arlington, VA 22203 (mail); hope_grey@fws.gov (e-mail); or (703) 358-2269 (fax).

FOR FURTHER INFORMATION CONTACT: To request additional information about this information collection request or the related forms, contact Hope Grey at one at the addresses above or by telephone at (703) 358-2482.

SUPPLEMENTARY INFORMATION: OMB regulations at 5 CFR part 1320, which implement provisions of the Paperwork Reduction Act of 1995 (44 U.S.C. 3501 et seq.), require that interested members of the public and affected agencies have an opportunity to comment on information collection and recordkeeping activities (see 5 CFR 1320.8(d)). We may not conduct or sponsor and you are not required to respond to a collection of information unless it displays a currently valid OMB control number.

The Endangered Species Act (16 U.S.C. 1531 et seq.) makes it unlawful to import or export fish, wildlife, or plants without filing a declaration or report deemed necessary for enforcing the Act or upholding the Convention on International Trade in Endangered Species (CITES) (see 16 U.S.C. 1538(e)). Any business or individual importing into or exporting from the United States any fish, wildlife, or wildlife product must complete FWS Form 3-177 (Declaration for Importation or Exportation of Fish or Wildlife). This form as well as FWS Form 3-177a (Continuation Sheet) and instructions for completion are available for electronic submission at https://edecs.fws.gov.

The information that we collect is unique to each wildlife shipment and enables us to accurately inspect the contents of the shipment; enforce any regulations that pertain to the fish, wildlife, or wildlife products contained in the shipment; and maintain records of the importation and exportation of these commodities. Additionally, since the United States is a member of CITES, we compile much of the collected information in an annual report that we forward to the CITES Secretariat in Geneva, Switzerland. Submission of an annual report on the number and types of imports and exports of fish, wildlife, and wildlife products is one of our treaty obligations under CITES. We also use the information obtained from FWS Form 3-177 as an enforcement tool and management aid in monitoring the international wildlife market and detecting trends and changes in the commercial trade of fish, wildlife, and wildlife products. Our Division of Scientific Authority and Division of Management Authority use this information to assess the need for additional protection for native species. In addition, nongovernmental organizations, including the commercial wildlife community, request information from us that we obtain from FWS Form 3-177.

Businesses or individuals must file FWS Form 3-177 with us at the time and port where they request clearance of the import or export of wildlife or wildlife products. In certain instances, FWS Form 3-177 may be filed with U.S. Customs and Border Protection. The standard information collection includes the name of the importer or exporter and broker, the scientific and common name of the fish or wildlife, permit numbers (if permits are required), a description of the fish or wildlife, quantity and value of the fish or wildlife, and natural country of origin of the fish or wildlife. In addition, certain information, such as the airway bill or bill of lading number, the location of the fish or wildlife for inspection, and the number of cartons containing fish or wildlife, assists our wildlife inspectors if a physical examination of the shipment is required. This information collection is part of a system of records covered by the Privacy Act (5 U.S.C. 552(a)).

Title: Declaration for Importation or Exportation of Fish or Wildlife, 50 CFR 14.61-14.64.

OMB Control Number: 1018-0012.

Service Form Number: 3-177 and 3-177a.

Frequency of Collection: On occasion, whenever clearance is requested for an importation or exportation of fish, wildlife, or wildlife products.

Description of Respondents: Businesses or individuals that import or export fish, wildlife, or wildlife products; scientific institutions that import or export fish or wildlife scientific specimens; government agencies that import or export fish or wildlife specimens for various purposes.

Number of Respondents: 25,000.

Total Annual Responses: 168,920. We estimate that 94,595 (56 percent) will be electronic submissions and 74,325 (44 percent) will be hard copy submissions.

Total Annual Burden Hours: 28,379 hours. We estimate the reporting burden to average 14 minutes per response when completed by hand and 7 minutes per response for electronic submissions.

Type of submission | Number of responses | Average time/ response (minutes) | Total burden hours
Electronic | 94,595 | 7 | 11,036
Hard Copy | 74,325 | 14 | 17,343
Total | 168,920 |  | 28,379

We invite comments concerning this information collection on: (1) Whether or not the collection of information is useful and necessary for us to do our job, (2) the accuracy of our estimate of the burden on the public to complete the form; (3) ways to enhance the quality and clarity of the information to be collected; and (4) ways to minimize the burden of the collection on respondents. Comments submitted in response to this notice are a matter of public record. We will include and/or summarize each comment in our request to OMB to renew approval for this information collection.

Dated: June 8, 2006.
Hope Grey,
Information Collection Clearance Officer, Fish and Wildlife Service.

[FR Doc. E6-9672 Filed 6-19-06; 8:45 am]

BILLING CODE 4310-55-P